DEPARTMENT OF ENERGY

Federal Energy Regulatory Commission

Combined Notice of Filings #1

Take notice that the Commission received the following exempt wholesale generator filings:

Docket Numbers: EG25-4-000.

Applicants: Pluto Energy Storage, LLC.

Description: Pluto Energy Storage, LLC submits Notice of Self-Certification of Exempt Wholesale Generator Status.

Filed Date: 10/8/24.

Accession Number: 20241008-5176.

Comment Date: 5 p.m. ET 10/29/24.

Docket Numbers: EG25-5-000.

Applicants: Kola Energy Storage, LLC.

Description: Kola Energy Storage, LLC submits Notice of Self-Certification of Exempt Wholesale Generator Status.

Filed Date: 10/8/24.

Accession Number: 20241008-5187.

Comment Date: 5 p.m. ET 10/29/24.

Docket Numbers: EG25-6-000.

Applicants: Jackson Fuller Energy Storage, LLC.

Description: Jackson Fuller Energy Storage, LLC submits Notice of Self-Certification of Exempt Wholesale Generator Status.

Filed Date: 10/8/24.

Accession Number: 20241008-5188.

Comment Date: 5 p.m. ET 10/29/24.

Take notice that the Commission received the following electric rate filings:

Docket Numbers: ER24-2687-001.

Applicants: California Independent System Operator Corporation.

Description: Tariff Amendment: 2024-10-08 Deficiency Response—2024 Tariff Clarification to be effective 8/3/2024.

Filed Date: 10/8/24.

Accession Number: 20241008-5155.

Comment Date: 5 p.m. ET 10/29/24.

Docket Numbers: ER24-3018-000.

Applicants: Serrano Solar, LLC.

Description: Supplement to 09/11/2024, Serrano Solar, LLC tariff filing.

Filed Date: 9/27/24.

Accession Number: 20240927-5290.

Comment Date: 5 p.m. ET 10/18/24.

Docket Numbers: ER25-50-000.

Applicants: PJM Interconnection, L.L.C.

Description: § 205(d) Rate Filing: Original GIA, Service Agreement No. 7380; AF1-245 to be effective 9/6/2024.

Filed Date: 10/7/24.

Accession Number: 20241007-5161.

Comment Date: 5 p.m. ET 10/28/24.

Docket Numbers: ER25-51-000.

Applicants: PJM Interconnection, L.L.C.

Description: § 205(d) Rate Filing: Revisions to Attachment X to be effective 12/16/2024.

Filed Date: 10/8/24.

Accession Number: 20241008-5020.

Comment Date: 5 p.m. ET 10/29/24.

Docket Numbers: ER25-52-000.

Applicants: AEP Texas Inc.

Description: § 205(d) Rate Filing: AEPTX-City Breeze BESS 1st Amended Generator Interconnection Agreement to be effective 9/17/2024.

Filed Date: 10/8/24.

Accession Number: 20241008-5034.

Comment Date: 5 p.m. ET 10/29/24.

Docket Numbers: ER25-53-000.

Applicants: Midcontinent Independent System Operator, Inc., ITC Midwest LLC.

Description: § 205(d) Rate Filing: Midcontinent Independent System Operator, Inc. submits tariff filing per 35.13(a)(2)(iii: 2024-10-08_SA 4362 ITC Midwest-ATC TIA to be effective 10/9/2024.

Filed Date: 10/8/24.

Accession Number: 20241008-5078.

Comment Date: 5 p.m. ET 10/29/24.

Docket Numbers: ER25-54-000.

Applicants: California Independent System Operator Corporation.

Description: § 205(d) Rate Filing: 2024-10-08 Rules of Conduct Enhancements—Tariff Amendment to be effective 12/31/9998.

Filed Date: 10/8/24.

Accession Number: 20241008-5090.

Comment Date: 5 p.m. ET 10/29/24.

Docket Numbers: ER25-55-000.

Applicants: Luz Solar Partners Ltd., IX.

Description: Tariff Amendment: Notice of Cancellation to be effective 10/9/2024.

Filed Date: 10/8/24.

Accession Number: 20241008-5097.

Comment Date: 5 p.m. ET 10/29/24.

Docket Numbers: ER25-57-000.

Applicants: Arizona Public Service Company.

Description: § 205(d) Rate Filing: Rate Schedule No. 211 Revisions to be effective 12/8/2024.

Filed Date: 10/8/24.

Accession Number: 20241008-5168.

Comment Date: 5 p.m. ET 10/29/24.

Docket Numbers: ER25-58-000.

Applicants: Sentinel Energy Center, LLC.

Description: § 205(d) Rate Filing: Amended Black Start Agreement to be effective 10/9/2024.

Filed Date: 10/8/24.

Accession Number: 20241008-5174.

Comment Date: 5 p.m. ET 10/29/24.

Docket Numbers: ER25-59-000.

Applicants: AES Pike County Energy Storage, LLC.

Description: Baseline eTariff Filing: Application for Market Based Rate Authority to be effective 11/7/2024.

Filed Date: 10/8/24.

Accession Number: 20241008-5180.

Comment Date: 5 p.m. ET 10/29/24.

Docket Numbers: ER25-60-000.

Applicants: Fox Squirrel Solar LLC.

Description: § 205(d) Rate Filing: 2024-10-08 Fox Squirrel Reactive Power Compensation Rate Schedule Filing to be effective 10/9/2024.

Filed Date: 10/8/24.

Accession Number: 20241008-5181.

Comment Date: 5 p.m. ET 10/29/24.

Docket Numbers: ER25-61-000.

Applicants: Florida Power & Light Company.

Description: § 205(d) Rate Filing: Amendments to FPL FERC Rate Schedule No. 317 with LCEC to be effective 1/1/2022.

Filed Date: 10/8/24.

Accession Number: 20241008-5185.

Comment Date: 5 p.m. ET 10/29/24.

Docket Numbers: ER25-62-000.

Applicants: Florida Power & Light Company.

Description: § 205(d) Rate Filing: Amendments to FPL FERC Rate Schedule No. 322 with FKEC to be effective 1/1/2022.

Filed Date: 10/8/24.

Accession Number: 20241008-5189.

Comment Date: 5 p.m. ET 10/29/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: October 8, 2024.
Debbie-Anne A. Reese,
Acting Secretary.

[FR Doc. 2024-23746 Filed 10-11-24; 8:45 am]

BILLING CODE 6717-01-P